FEDERAL EMERGENCY MANAGEMENT AGENCY

44 CFR Part 67

[Docket No. FEMA-7322]

Proposed Flood Elevation Determinations

AGENCY: Federal Emergency Management Agency (FEMA).

ACTION: Proposed rule.

SUMMARY: Technical information or comments are requested on the proposed base (1-percent-annual-chance) flood elevations and proposed base flood elevation modifications for the communities listed below. The base flood elevations and modified base flood elevations are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed base flood elevations for each community are available for inspection at the office of the Chief Executive Officer of each community. The respective addresses are listed in the following table.

FOR FURTHER INFORMATION CONTACT: Matthew B. Miller, P.E., Chief, Hazards Study Branch, Mitigation Directorate, 500 C Street SW, Washington, DC 20472, (202) 646-3461, or (e-mail) matt.miller@fema.gov.

SUPPLEMENTARY INFORMATION: The Federal Emergency Management Agency proposes to make determinations of base flood elevations and modified base flood elevations for each community listed below, in accordance with Section 110 of the Flood Disaster Protection Act of 1973, 42 U.S.C. 4104, and 44 CFR 67.4(a).

These proposed base flood and modified base flood elevations, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

National Environmental Policy Act

This proposed rule is categorically excluded from the requirements of 44 CFR Part 10, Environmental Consideration. No environmental impact assessment has been prepared.

Regulatory Flexibility Act

The Associate Director for Mitigation certifies that this proposed rule is exempt from the requirements of the Regulatory Flexibility Act because proposed or modified base flood elevations are required by the Flood Disaster Protection Act of 1973, 42 U.S.C. 4104, and are required to establish and maintain community eligibility in the NFIP. No regulatory flexibility analysis has been prepared.

Regulatory Classification

This proposed rule is not a significant regulatory action under the criteria of Section 3(f) of Executive Order 12866 of September 30, 1993, Regulatory Planning and Review, 58 FR 51735.

Executive Order 12612, Federalism

This proposed rule involves no policies that have federalism implications under Executive Order 12612, Federalism, dated October 26, 1987.

Executive Order 12778, Civil Justice Reform

This proposed rule meets the applicable standards of Section 2(b)(2) of Executive Order 12778.

List of Subjects in 44 CFR Part 67

Administrative practice and procedure, Flood insurance, Reporting and recordkeeping requirements.

Accordingly, 44 CFR part 67 is proposed to be amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location | #Depth in feet above ground. *Elevation in feet. (NGVD): Existing | #Depth in feet above ground. *Elevation in feet. (NGVD): Modified
Arkansas | Benton County and Incorporated Areas | Osage/Turtle Creek | Just upstream of North 12th Street | None | * 1,325
|  |  | Approximately 400 feet upstream of North 6th Street | None | *1,340
|  | Blossom Way Creek | At its confluence with Osage/Turtle Creek | None | *1,205
|  |  | At its intersection with South 26th Street | None | *1,276
|  | Osage Tributary 1 (Horsebarn Tributary) | At its intersection with Stoney Brook Road | None | *1,204
|  |  | Approximately 700 feet upstream of Horsebarn Road | None | *1,252
|  | Superior Tributary to Osage/Turtle Creek | At its confluence with Osage/Turtle Creek | None | *1,284
|  |  | Approximately 1,300 feet upstream of Dixieland Road | None | *1,314
|  | Tributary 1 of Blossom Way Creek | At its confluence with Blossom Way Creek | None | *1,288
|  |  | Approximately 3,300 feet upstream of its confluence Tributary 2 of Blossom Way Creek | None | *1,325
|  | Tributary 2 to Blossom Way Creek | At its confluence with Tributary 1 of Blossom Way Creek | None | *1,299
|  |  | Approximately 4,300 feet upstream of Honeysuckle Road | None | *1,332
|  | Tributary 3 to Blossom Way Creek | At its confluence with Blossom Way Creek | None | *1,257
|  |  | Approximately 1,900 feet upstream from its confluence with Blossom Way Creek | None | *1,268
Maps are available for inspection at 215 East Central, Suite 8, Room 302, Bentonville, Arkansas.
Send comments to the Honorable Cary Anderson, Benton County Judge, 215 East Central, Suite 9, Bentonville, Arkansas 72712.
Maps are available for inspection at 207 South Second, Rogers, Arkansas.
Send comments to the Honorable Steve Womack, Mayor, City of Rogers, 300 West Poplar, Rogers, Arkansas 72756.
Maps are available for inspection at 214 North Lincoln Street, Lowell, Arkansas.
Send comments to the Honorable Martha Brown, Mayor, City of Lowell, P.O. Box 129, Lowell, Arkansas 72745.
Maps are available for inspection at 315 Southwest A Street, Bentonville, Arkansas.
Send comments to the Honorable Terry Coberly, Mayor, City of Bentonville, 117 West Central, Bentonville, Arkansas 72712.
| Crawford County and Incorporated Areas | Tributary 1 | At its confluence with Little Frog Bayou | None | *413
|  |  | Approximately 350 feet upstream of East Cherry Street | None | *431
|  | Tributary 2 | At its confluence with Tributary 1 | None | *418
|  |  | Approximately 275 feet upstream of East Cherry Street | None | *429
|  | Tributary 4 | At its confluence with Little Frog Bayou Tributary | None | *444
|  | Tributary A | Approximately 1,200 feet upstream of its confluence with Little Frog Bayou Tributary | None | *469
|  |  | Approximately 650 feet downstream of the Union Pacific Railroad | None | *411
|  | Lighthouse Drain | Just upstream of Arkansas Highway 64 | None | *434
|  |  | At its confluence with Tributary A | None | *414
|  |  | Approximately 100 feet upstream of Lighthouse Drive | None | *439
|  | Little Frog Bayou Tributary | At its confluence with Little Frog Bayou | *423 | *426
|  |  | Just upstream of Maple Shade Road | None | *508
Maps are available for inspection at 300 Main Street, Room 4, Van Buren, Arkansas.
Send comments to the Honorable Jerry Williams, Crawford County Judge, 300 Main Street, Room 4, Van Buren, Arkansas 72956.
Maps are available for inspection at 804 Fayetteville Avenue, Suite B, Alma, Arkansas 72921.
Send comments to the Honorable Kevin Beaumont, Mayor, City of Alma, 804 Fayetteville Avenue, Suite A, Alma, Arkansas 72921.
| Russellville (City) Pope County | Whig Creek | At its intersection with the Union Pacific Railroad | *385 | *393
|  |  | Just upstream of Arkansas Highway 64 | None | *416
|  | Whig Creek Tributary No. 1 | At its confluence with Whig Creek | None | *323
|  |  | Approximately 500 feet upstream of Arkansas Highway 75 | None | *326
|  | Whig Creek Tributary No. 2 | At its confluence with Whig Creek | None | *323
|  |  | Approximately 2,500 feet upstream of the Dardanelle and Russellville Railroad | None | *323
|  | Prairie Creek | At its confluence with Prairie Creek Tributary No. 2 | None | *374
|  |  | Approximately 250 feet upstream of Weir Road | None | *393
|  | Prairie Creek Tributary No. 2 | At its confluence with Prairie Creek | *374 | *374
|  |  | At its intersection with Weir Road (Arkansas Highway 326) | *384 | *382
|  |  | Approximately 2,000 feet upstream of Weir Road | None | *394
|  | School Drain | At its confluence with Prairie Creek | None | *343
|  |  | Approximately 2,000 feet upstream of University Drive | None | *387
Maps are available for inspection at 205 West Second Street, Russellville, Arkansas.
Send comments to the Honorable Raye Turner, Mayor, City of Russellville, P.O. Box 428, Russellville, Arkansas 72811.
| Washington County and Incorporated Areas | Middle Fork White River | Approximately 12,000 feet upstream of mouth | None | *1,193
|  |  | Approximately 3,700 feet upstream of its confluence with Koger Branch | None | *1,209
|  | Stokenbury Creek | At its confluence with the White River | None | *1,199
|  |  | Just upstream of Stokenbury Road | None | *1,446
|  | Koger Branch | At its confluence with the Middle Fork White River | None | *1,202
|  |  | Approximately 2,700 feet upstream of South Harris Drive | None | *1,220
|  | Faubus Creek | At its confluence with the White River | None | *1,211
|  |  | Approximately 4,300 feet upstream of South Center Street | None | *1,255
Maps are available for inspection at 130 West First Street, Elkins, Arkansas.
Send comments to the Honorable Oscar Lisle, Mayor, City of Elkins, P.O. Box 331, Elkins, Arkansas 72727.
Maps are available for inspection at 4 South College Avenue, Suite 205, Fayetteville, Arkansas.
Send comments to the Honorable Jerry Hunton, Washington County Judge, 280 North College Avenue, Suite 210, Fayetteville, Arkansas 72701.
North Dakota | Benson County and Incorporated Areas | Silver Lake | Entire shoreline of Silver Lake | None | *1,450
|  | Pelican Lake | South shoreline of Pelican Lake | None | *1,450
|  | Spring Lake | Spring Lake shoreline | None | *1,450
|  | Devils Lake | Northwest shoreline of Grahms Island | None | *1,450
|  |  | Devils Lake shoreline adjacent to Minnewaukan | None | *1,451
|  |  | Area East of U.S. Route 281, south of intersection with State Route 19 | None | *1,453
|  |  | West Side Woods Rutten Causeway | None | *1,454
|  |  | West Side of State Route 57 Causeway south of the Narrows State Recreation Area | None | *1,455
Maps are available for inspection at the County Courthouse/Tax Equalization Office, 311 B Avenue South, Minnewaukan, North Dakota.
Send comments to the Honorable John Grann, Chairperson, Benson County Board of Commissioners, P.O. Box 123, Minnewaukan, North Dakota 58351.
Maps are available for inspection at the City Office, 130 Main Street East, Minnewaukan, North Dakota 58351.
Send comments to the Honorable Mike Every, Mayor, City of Minnewaukan, P.O. Box 56, Minnewaukan, North Dakota 58351.
Maps are available for inspection at the Floodplain Emergency Management—Bureau of Indian Affairs Realty Office, Highway 57, Fort Totten, North Dakota.
Send comments to the Honorable Phillip Lonzie, Sr., Tribal Chairperson, P.O. Box 359, Fort Totten, North Dakota 58335.
| Nelson County (Unincorporated Areas) | Stump Lake | Entire shoreline of Stump Lake | None | *1,450
Maps are available for inspection at Nelson County Sheriff's Office, 210 W. B Avenue, Lakota, North Dakota.
Send comments to the Honorable Lawrence E. Jahnke, Presiding Judge, 210 W. B Avenue, Lakota, North Dakota 58344.
| Ramsey County and Incorporated Areas | Lake Irvine | Entire shoreline of Lake Irvine | None | *1,450
|  | Lake Alice | Entire shoreline of Lake Alice | None | *1,450
|  | Chain Lake | Entire shoreline of Chain Lake | None | *1,450
|  | Mikes Lake | Entire shoreline of Mikes Lake | None | *1,450
|  | Dry Lake | Entire shoreline of Dry Lake | None | *1,450
|  | Stone Lake | Entire shoreline of Stone Lake | None | *1,450
|  | Pelican Lake | North shoreline of Pelican Lake | None | *1,450
|  | Sixmile Bay | Northernmost point of Sixmile Bay | None | *1,450
|  |  | West shore of Sixmile Bay | None | *1,450
|  |  | East shore Sixmile Bay tow miles south of State Route 19 | None | *1,451
|  | Creel Bay | Entire western shore of Creel Bay | None | *1,450
|  |  | Bay side of levee, east shoreline of Creel Bay, one mile North of Lakewood Park | None | *1,452
|  |  | Bay side of levee located at southwest side of Devils Lake Municipal airport | None | *1,455
|  | Devils Lake | Approximately 7,000 feet west of 8th Avenue South | None | *1,451
|  |  | Approximately 7,000 feet east of 8th Avenue South | None | *1,452
|  |  | West side State Route 57 causeway south of the Narrows State Recreational Area | None | *1,455
|  | East Devils Lake | North Shoreline of East Devils Lake | None | *1,450
Maps are available for inspection at Ramsey County Emergency Management, 425 4th Avenue, Devils Lake, North Dakota.
Send comments to the Honorable Arne Berg, County Commission Chairman, HE 1, Box 112, Starkweather, North Dakota 58377.
Maps are available for inspection at the Post Office c/o Bill Bartle, 304 Orvis Avenue, Church's Ferry, North Dakota.
Send comments to the Honorable Bill Bartle, Mayor, City of Church's Ferry, P.O. Box 156, Church's Ferry, North Dakota 58325.
Maps are available for inspection at Ramsey County Emergency Management, 425 4th Avenue, Devils Lake, North Dakota.
Send comments to the Honorable Raymond Kaeding, Chairman, Township of Coulee, HCR 1, Box 27, Penn, North Dakota 58362.
Maps are available for inspection at Ramsey County Tax Equalization Office, 524 4th Avenue, Devils Lake, North Dakota.
Send comments to the Honorable Evan Heutis, Chairman, Township of Creel, Route 5, Box 259, Devils Lake, North Dakota 58301-0259.
Maps are available for inspection at the City Offices, 423 6th Street, Devils Lake, North Dakota.
Send comments to the Honorable Fred Bolt, Mayor, City of Devils Lake, P.O. Box 1048, Devils Lake, North Dakota 58301.
| Towner County (Unincorporated Areas) | Mauvais Coulee River | Section 8 of Township 157N and Range 66W (Panel 650A) | None | *1,450
|  |  | Section 36 of Township 157N and Range 66W (Panel 800A) | None | *1,450
Maps are available for inspection at Sheriff's Office, 315 2nd Street, Cando, North Dakota.
Send comments to the Honorable Darwin Daerwald, Chairman, Board of Commissioners, Box 179, Cando, North Dakota 58324.
Washington | Okanogan County (Unincorporated Areas) | Twisp River | Approximately 2.18 miles above mouth | *1,677 | *1,677
|  |  | Approximately 2.23 miles above mouth | None | *1,679
|  |  | At its intersection with the Poorman Creek Cutoff Road Bridge | None | *1,830
Maps are available for inspection at Okanogan County Planning and Development, 237 Fourth Avenue, Okanogan, Washington.
Send comments to the Honorable Ed Thiele, Chairman of the Board of Commissioners, P.O. Box 791, Okanogan, Washington 98840.

(Catalog of Federal Domestic Assistance No. 83.100, “Flood Insurance”)
Dated: May 17, 2000.
Michael J. Armstrong,
Associate Director for Mitigation.

[FR Doc. 00-13997 Filed 6-2-00; 8:45 am]

BILLING CODE 6718-04-P